DEPARTMENT OF COMMERCE

Foreign-Trade Zones Board

[S-266-2019]

Approval of Subzone Status; Walgreen Co.; Mt. Vernon, Illinois

On December 26, 2019, the Executive Secretary of the Foreign-Trade Zones (FTZ) Board docketed an application submitted by the America's Central Port District, grantee of FTZ 31, requesting subzone status subject to the existing activation limit of FTZ 31, on behalf of Walgreen Co., in Mt. Vernon, Illinois.

The application was processed in accordance with the FTZ Act and Regulations, including notice in the Federal Register inviting public comment (85 FR 298, January 3, 2020). The FTZ staff examiner reviewed the application and determined that it meets the criteria for approval. Pursuant to the authority delegated to the FTZ Board Executive Secretary (15 CFR Sec. 400.36(f)), the application to establish Subzone 31D was approved on February 25, 2020, subject to the FTZ Act and the Board's regulations, including Section 400.13, and further subject to FTZ 31's 2,000-acre activation limit.

Dated: February 25, 2020.
Andrew McGilvray,
Executive Secretary.

[FR Doc. 2020-04267 Filed 3-2-20; 8:45 am]

BILLING CODE 3510-DS-P